DEPARTMENT OF STATE

[Public Notice 6529]

60-Day Notice of Proposed Information Collection: DS-158, Contact Information and Work History for Nonimmigrant, OMB Control Number 1405-0144

ACTION: Notice of request for public comments.

SUMMARY: The Department of State is seeking Office of Management and Budget (OMB) approval for the information collection described below. The purpose of this notice is to allow 60 days for public comment in the Federal Register preceding submission to OMB. We are conducting this process in accordance with the Paperwork Reduction Act of 1995.

• Title of Information Collection: Contact Information and Work History for Nonimmigrant.

• OMB Control Number: 1405-0144.

• Type of Request: Extension of a Currently Approved Collection.

• Originating Office: CA/VO.

• Form Number: DS-158.

• Respondents: Nonimmigrant visa applicants.

• Estimated Number of Respondents: 700,000.

• Estimated Number of Responses: 700,000.

• Average Hours per Response: 1 hour.

• Total Estimated Burden: 700,000 hours.

• Frequency: Once per applicant.

• Obligation to Respond: Required to Obtain or Retain a Benefit.

DATES: The Department will accept comments from the public up to 60 days from February 19, 2009.

ADDRESSES: You may submit comments by any of the following methods:

• Web: Persons with access to the internet may also view and comment on this notice by going to the regulations.gov Web site at http://www.regulations.gov/index/cfm.

• Mail (paper, disk, or CD-ROM submissions): Chief, Legislation and Regulations Division, Visa Services—DS-160, 2401 E. Street, NW., Washington, DC 20520-30106.

You must include the DS form number (if applicable), information collection title, and OMB control number in any correspondence.

FOR FURTHER INFORMATION CONTACT: Direct requests for additional information regarding the collection listed in this notice, including requests for copies of the proposed information collection and supporting documents, to Lauren Prosnik, Visa Services, U.S. Department of State, 2401 E Street, NW., L-603, Washington, DC 20522, who may be reached at (202) 663-2951.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of proposed collection:

The DS-158 is used to collect supplemental information from students wishing to obtain a nonimmigrant visa to study in the United States.

Methodology:

Applicants may fill out the DS-158 online or print the page and fill it out by hand, and submit it in person at the time of interview.

Dated: February 6, 2009.
David T. Donahue,
Deputy Assistant Secretary, Bureau of Consular Affairs, Department of State.

[FR Doc. E9-3527 Filed 2-18-09; 8:45 am]

BILLING CODE 4710-06-P